DEPARTMENT OF HOMELAND SECURITY

8 CFR Parts 103, 212, 214, 245 and 299

[CIS No. 2134-01; DHS Docket No. USCIS-2006-0067]

RIN 1615-AA60

Adjustment of Status to Lawful Permanent Resident for Aliens in T or U Nonimmigrant Status; Correction

AGENCY: U.S. Citizenship and Immigration Services, DHS.

ACTION: Interim final rule; Correction.

SUMMARY: With this amendment, the Department of Homeland Security (DHS) corrects an inadvertent error that was made in the Adjustment of Status to Lawful Permanent Resident for Aliens in T and U Nonimmigrant Status interim rule published in the Federal Register on December 12, 2008, at 73 FR 75540.

DATES: This rule is effective January 12, 2009.

FOR FURTHER INFORMATION CONTACT: Laura Dawkins, Office of Policy and Strategy, U.S. Citizenship and Immigration Services, Department of Homeland Security, 20 Massachusetts Avenue, NW., Second Floor, Washington, DC 20529-2140, telephone (202) 272-8350.

SUPPLEMENTARY INFORMATION:

Need for Correction

On December 12, 2008, the Department of Homeland Security published an interim rule in the Federal Register at 73 FR 75540 to permit aliens in lawful T or U nonimmigrant status to apply for adjustment of status to lawful permanent resident. At 8 CFR 245.24 DHS inadvertently:

• Ended the sentence in paragraph (d)(9) with a “:” instead of a “;”,

• Omitted the word “facts” immediately after the word “specific” at the end of paragraph (d)(9), and

• Ended the sentence in paragraph (d)(10) with a “period” rather than a “; and”.

Correction of Publication

Accordingly, the publication on December 12, 2008, at 73 FR 75540 of the interim final rule that was the subject of FR Doc. E8-29277 is corrected as follows:

PART 245—ADJUSTMENT OF STATUS TO THAT OF PERSON ADMITTED FOR PERMANENT RESIDENCE

§ 245.24 [Corrected]

1. On page 75561, in the second column, at the end of paragraph (d)(9), revise the term “by specific:” to read: “by specific facts;”.

2. On page 75561, in the second column, at the end of paragraph (d)(10), remove the “.” and add a “; and” in its place.

Dated: December 30, 2008.
Michael Aytes,
Acting Deputy Director, U.S. Citizenship and Immigration Services.

[FR Doc. E8-31380 Filed 1-5-09; 8:45 am]

BILLING CODE 9111-97-P